DEPARTMENT OF TRANSPORTATION

Federal Aviation Administration

14 CFR Part 71

[Docket No. FAA-2011-0627; Airspace Docket No. 11-ASO-27]

Proposed Amendment of Class E Airspace; Pelion, SC

AGENCY: Federal Aviation Administration (FAA), DOT.

ACTION: Notice of proposed rulemaking (NPRM), withdrawal.

SUMMARY: A notice of proposed rulemaking published in the Federal Register on August 22, 2011 amending Class E airspace at Lexington County Airport at Pelion, Pelion, SC, is being withdrawn. Upon review, the FAA found that controlled airspace already exists for this airport under a different city designator and airport name, and substantial corrections would need to be made. In the interest of clarity, a new proposal amending existing airspace and establishing airspace with the new information will be submitted under a separate rulemaking.

DATES: Effective December 14, 2011, the proposed rule published August 22, 2011 (76 FR 52290), is withdrawn. 0901 UTC.

FOR FURTHER INFORMATION CONTACT: John Fornito, Operations Support Group, Eastern Service Center, Federal Aviation Administration, P.O. Box 20636, Atlanta, Georgia 30320; telephone (404) 305-6364.

SUPPLEMENTARY INFORMATION:

History

On August 22, 2011, a NPRM was published in the Federal Register amending Class E airspace at Pelion, SC to accommodate new standard instrument approach procedures for Lexington County Airport at Pelion (76 FR 52290). Subsequent to publication the FAA found that the airspace currently existed under the airport's previous name of Corporate Airport and the city designator of Columbia, SC. To avoid confusion this proposed rule is being withdrawn and will be established under another rulemaking with the new airport name and designation, along with an amendment for the Columbia, SC controlled airspace area removing Corporate Airport from the description.

Lists of Subjects in 14 CFR Part 71

Airspace, Incorporation by reference, Navigation (air).

The Withdrawal

Accordingly, pursuant to the authority delegated to me, the Notice of Proposed Rulemaking, as published in the Federal Register on August 22, 2011 (76 FR 52290) (FR Doc. 2011-21827), is hereby withdrawn.

Authority: 49 U.S.C. 106(g); 40103, 40113, 40120; E.O. 10854, 24 FR 9565, 3 CFR, 1959-1963 Comp., p. 389.

Issued in College Park, Georgia, on December 5, 2011.
Mark D. Ward,
Manager, Operations Support Group, Eastern Service Center, Air Traffic Organization.

[FR Doc. 2011-32039 Filed 12-13-11; 8:45 am]

BILLING CODE 4910-13-P